FEDERAL COMMUNICATIONS COMMISSION

47 CFR Part 1

[GN Docket No. 12-268; FCC 14-50]

Expanding the Economic and Innovation Opportunities of Spectrum Through Incentive Auctions

AGENCY: Federal Communications Commission.

ACTION: Final rule; announcement of effective date.

SUMMARY: In this document, the Commission announces that the Office of Management and Budget (OMB) has approved, on an emergency basis, new information collection requirements and FCC Form 1875, Reverse Auction (Auction 1001) Incentive Payment Instructions from Reverse Auction Winning Bidder associated with the Commission's Expanding the Economic and Innovation Opportunities of Spectrum Through Incentive Auctions Report and Order (Incentive Auction Report and Order), FCC 14-50. This document is consistent with the Incentive Auction Report and Order, which stated that the Commission would publish a document in the Federal Register announcing OMB approval and the effective date of the new information collection requirements.

DATES: The amendment to 47 CFR 1.2209 published at 79 FR 48442 on August 15, 2014, is effective on October 25, 2018.

FOR FURTHER INFORMATION CONTACT: For additional information contact Nicole Ongele, Nicole.Ongele@fcc.gov, (202) 418-2991.

SUPPLEMENTARY INFORMATION: This document announces that, on January 17, 2017 OMB approved, on an emergency basis, new information collection requirements and FCC Form 1875, Reverse Auction (Auction 1001) Incentive Payment Instructions from Reverse Auction Winning Bidder, contained in the Commission's Incentive Auction Report and Order, FCC 14-50, published at 79 FR 48442, August 15, 2014. The OMB Control Number is 3060-1224. The Commission publishes this document as an announcement of the effective date of the rules and requirements. If you have any comments on the burden estimates listed below, or how the Commission can improve the collections and reduce any burdens caused thereby, please contact Nicole Ongele, Federal Communications Commission, Room 1-A620, 445 12th Street SW, Washington, DC 20554. Please include the OMB Control Number, 3060-1224, in your correspondence. The Commission will also accept your comments via email at PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received emergency approval from OMB on January 17, 2017, for the information collection requirements contained in 47 CFR 1.2209.

Under 5 CFR part 1320, an agency may not conduct or sponsor a collection of information unless it displays a current, valid OMB Control Number.

No person shall be subject to any penalty for failing to comply with a collection of information subject to the Paperwork Reduction Act that does not display a current, valid OMB Control Number. The OMB Control Number is 3060-1224.

The foregoing notice is required by the Paperwork Reduction Act of 1995, Public Law 104-13, October 1, 1995, and 44 U.S.C. 3507.

The total annual reporting burdens and costs for the respondents are as follows:

OMB Control Number: 3060-1224.

OMB Approval Date: January 17, 2017.

OMB Expiration Date: July 31, 2017.

Title: Reverse Auction (Auction 1001) Incentive Payment Instructions from Reverse Auction Winning Bidder.

Form Number: FCC Form 1875.

Respondents: Business or other for-profit, Not-for-profit institutions and State, Local or Tribal government.

Number of Respondents and Responses: 750 respondents; 1,500 responses.

Estimated Time per Response: 2.5 hours.

Frequency of Response: One-time reporting requirement.

Obligation to Respond: Required to obtain or retain benefits. The statutory authority for this information collection is contained in the Middle Class Tax Relief and Job Creation Act of 2012, Public Law 112-96 (Spectrum Act) § 6403(a)(1).

Total Annual Burden: 3,750 hours.

Total Annual Cost: No Cost.

Nature and Extent of Confidentiality: The information collection includes information identifying bank accounts and providing account and routing numbers to access those accounts. FCC considers that information to be records not routinely available for public inspection under 47 CFR 0.457, and exempt from disclosure under FOIA exemption 4 (5 U.S.C. 552(b)(4)).

Privacy Act Impact Assessment: No impact(s).

Needs and Uses: The collection was submitted to OMB and approved, on an emergency basis, for the information collection requirements contained in the Commission's Incentive Auction Order, FCC 14-50, which adopted rules for holding an Incentive Auction as required by the Middle Class Tax Relief and Job Creation Act of 2012 (Spectrum Act).

The Spectrum Act mandates “a reverse auction to determine the amount of compensation that each broadcast television licensee would accept in return for voluntarily relinquishing some or all of its broadcast television spectrum usage rights in order to make spectrum available for assignment through a system of competitive bidding”.¹

¹ Middle Class Tax Relief and Job Creation Act of 2012, Public Law 112-96 (Spectrum Act) § 6403(a)(1).

The Commission conducted notice-and-comment rulemaking to implement the Spectrum Act, and ruled in the Incentive Auction Report and Order that:

“we adopt the Commission's proposal to require successful bidders in the reverse auction to submit additional information to facilitate incentive payments. As mentioned in the NPRM, we envision that the information would be submitted on standardized incentive payment forms similar to the Automated Clearing House (“ACH”) forms unsuccessful bidders in typical spectrum license auctions use to request refunds of their deposits and upfront payments. This information collection is necessary to facilitate incentive payments and should not be burdensome to successful bidders. Specifically, without further instruction and bank account information from successful bidders, the Commission would not know where to send the incentive payments.” [footnotes omitted] ²

² Expanding the Economic and Innovation Opportunities of Spectrum Through Incentive Auctions, GN Docket No. 12-268, Report and Order, 29 FCC Rcd 6567 (2014) (“Incentive Auction R&O”) at 537.

The information collection for which we are requesting approval is the standardized incentive payment form referred to in the paragraph above.

Federal Communications Commission.
Marlene Dortch,
Secretary, Office of the Secretary.

[FR Doc. 2018-23349 Filed 10-24-18; 8:45 am]

BILLING CODE 6712-01-P